DEPARTMENT OF DEFENSE

Department of the Army

Final Environmental Impact Statement for the Construction and Operation of an Infantry Platoon Battle Course at Pōhakuloa Training Area, Hawai`i

AGENCY: Department of the Army, DoD.

ACTION: Notice of availability.

SUMMARY: The U.S. Army Pacific (USARPAC) and U.S. Army Garrison, Hawai`i, (USAG-HI) propose to construct and operate a modern Infantry Platoon Battle Course (IPBC) and associated infrastructure that is compliant with current Army training requirements at Pōhakuloa Training Area (PTA), Hawai`i. The proposed IPBC would support the live-fire collective training needs of the Army, Army Reserve, and Hawai`i Army National Guard, as well as other Service components that are stationed or train in Hawai`i.

Two alternatives were analyzed in the EIS: the Western Range Area Alternative (preferred) and the Charlie Circle Alternative. Both proposed IPBC alternative locations are in under-utilized portions of the PTA impact area where no ranges currently exist. These locations have been exposed to indirect munitions fire, and the proposed action would reclaim portions of the impact area to construct the IPBC. A third alternative analyzed in the Draft Programmatic Environmental Impact Statement (PEIS), Southwest of Range 20, is not operationally feasible and has been eliminated from the Final EIS. The Army also considered a No Action Alternative to not build the IPBC. For all alternatives (except for the No Action), the IPBC would be used for 242 training days per year.

The Army identified and analyzed environmental and socioeconomic impacts associated with the proposed IPBC. The major potential environmental impacts are to air quality, cultural sites, threatened and endangered species, encountering munitions and explosives of concern, and igniting wildfires. Cultural resources could also be significantly impacted. The Army consulted with the USFWS on potential mitigation measures to protect federally-listed species. The USFWS issued a Biological Opinion (BO) pursuant to Section 7 of the Endangered Species Act on January 11, 2013. The Army also consulted with the State Historic Preservation Division, Advisory Council on Historic Preservation, and other consulting parties, including Native Hawaiian organizations, about potential effects on cultural resources and mitigation of those effects. The Army and the consulting parties are in the process of signing a Programmatic Agreement (PA) pursuant to Section 106 of the National Historic Preservation Act. The PA establishes how the remaining steps to the Section 106 consultation will be completed and the mitigation measures for the potential adverse effects on cultural resources. The PA will be signed prior to the Army issuing a Record of Decision for the proposed action.

DATES: The waiting period for the Final EIS will end 30 days after publication of the NOA in the Federal Register by the U.S. Environmental Protection Agency.

ADDRESSES: Written comments may be addressed to PTA EIS, P.O. Box 514, Honolulu, HI 96809 or by email to PTAPEIS@bah.com.

FOR FURTHER INFORMATION CONTACT: USAG-HI Public Affairs Office by phone at (808) 656-3152 Monday through Friday 9:00 a.m. to 5:00 p.m. Hawai`i Standard Time (HST).

SUPPLEMENTARY INFORMATION: The IPBC would be used to train and test infantry platoons and other units on the skills necessary to conduct collective (group) tactical movement techniques, and to detect, identify, engage, and defeat stationary and moving infantry and armor targets in a tactical array. Soldiers would engage targets with small arms, machine guns, and other weapon systems as part of live-fire exercises. This includes air-ground integration where Soldiers maneuvering on the IPBC can coordinate air support. In addition to live-fire, the range would also be used for training with sub-caliber and/or laser training devices. This type of training is mission essential for Soldiers to be prepared to encounter threats during combat operations overseas.

The Draft PEIS included a programmatic level analysis of future modernization of ranges, training and support infrastructure, and the Cantonment Area. A number of factors caused the Army to reconsider the programmatic portion of this analysis: the highly uncertain nature of the future projects in the modernization program, a rapidly changing austere fiscal environment, as well as the many public and agency comments received on the Draft PEIS. After thorough consideration of all of these factors, Army leadership has decided to defer analysis of the programmatic portion of the EIS.

In the 2011 Draft PEIS, the IPBC was analyzed as part of a larger Infantry Platoon Battle Area (IPBA), which included a Military Operations on Urban Terrain (MOUT) Assault Course and a live-fire Shoothouse facility. Due to funding constraints, the MOUT Assault Course and Shoothouse facility are no longer part of the project. Further NEPA analysis will occur when funding becomes available for these projects and sites are identified. A third IPBC alternative analyzed in the Draft PEIS, Southwest of Range 20, was subsequently found not to be operationally feasible and it was eliminated from the Final EIS.

The Record of Decision will be published no sooner than 30 days after publication of the notice of availability of the Final EIS in the Federal Register by the U.S. Environmental Protection Agency. The Record of Decision will include final mitigation measures the Army will adopt. Copies of the Final EIS are available at the following libraries: Hilo Public Library, 300 Waianuenue Avenue, Hilo; Kailua-Kona Public Library, 75-138 Hualalai Road, Kailua-Kona; Thelma Parker Memorial Public and School Library, 67-1209 Mamalahoa Highway, Kamuela; and Hawai`i State Library, 478 South King Street, Honolulu. A copy of the Final EIS can be accessed online at http://www.garrison.hawaii.army.mil/pta_peis/default.htm.

Brenda S. Bowen,
Army Federal Register Liaison Officer.

[FR Doc. 2013-09827 Filed 4-25-13; 8:45 am]

BILLING CODE 3710-08-P